DEPARTMENT OF ENERGY

Federal Agency Regulatory Commission

[Project No. 2035-006 Colorado]

City and County of Denver; Notice of Availability of Final Environmental Assessment

June 28, 2000.

In accordance with the National Environmental Policy Act of 1969 and the Federal Energy Regulatory Commission's (Commission) regulations, 18 CFR part 380 (Order No. 486, 52 FR 47897), the Office of Energy Projects has reviewed the application for a new license for the Gross Reservoir Hydroelectric Project, and has prepared a Final Environmental Assessment (FEA). The project is located on South Boulder Creek, near the city of Boulder, in Boulder County, Colorado. The Project occupies federal lands managed by the U.S. Forest Service, Roosevelt National Forest, and the Bureau of Land Management.

In the FEA, the Commission's staff has analyzed the existing and potential future environmental impacts of the project and has concluded that licensing the project, with appropriate environmental protective or enhancement measures, would not constitute a major federal action that would significantly affect the quality of the human environment.

Copies of the FEA are available for review in the Public Reference Room, Room 2A, of the Commission's offices at 888 First Street, NE., Washington, DC 20426. The FEA may be viewed on http://www.ferc.fed.us/online/rims.htm (call (202) 208-2222 for assistance).

Linwood A. Watson, Jr.,
Acting Secretary.

[FR Doc. 00-16839 Filed 7-3-00; 8:45 am]

BILLING CODE 6717-01-M